DEPARTMENT OF COMMERCE

International Trade Administration

National Institutes of Standards and Technology

Notice of Consolidated Decision on Application for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 A.M. and 5:00 P.M. in Room 3705, U.S. Department of Commerce, 14th and Constitution Avenue., NW, Washington, D.C.

Docket Number: 09-008. Applicant: National Institutes of Standards and Technology, Gaithersburg, MD 20899. Instrument: Electron Microscope. Manufacturer: FEI Company, the Netherlands. Intended Use: See notice at 74 FR 16835, April 13, 2009.

Comments: None received. Decision: Approved. No instrument of equivalent scientific value to the foreign instrument, for such purposes as this instrument is intended to be used, is being manufactured in the United States at the time the instrument was ordered. Reasons: The foreign instrument is an electron microscope and is intended for research or scientific educational uses requiring an electron microscope. We know of no electron microscope, or any other instrument suited to this purpose, which is being manufactured in the United States at the time of order of this instrument.

Dated: April 16, 2009.
Christopher Cassel,
Acting Director, Subsidies Enforcement Office, Import Administration.

[FR Doc. E9-9235 Filed 4-21-09; 8:45 am]

BILLING CODE 3510-DS-S